DEPARTMENT OF THE INTERIOR

National Park Service

Notice of Boundary Amendment—Harpers Ferry National Historical Park

AGENCY: Department of the Interior, National Park Service.

ACTION: Notice of boundary amendment—Harpers Ferry National Historical Park.

SUMMARY: Notice is hereby given that the National Park Service (NPS) is amending the boundary of Harpers Ferry National Historical Park to include three additional tracts of land containing 160 acres.

FOR FURTHER INFORMATION CONTACT: Chief, Land Resources Program Center, National Capital Region, National Park Service, 1100 Ohio Drive, SW., Washington, DC 20242.

SUPPLEMENTARY INFORMATION: The Act of June 30, 1944, c. 328, 58 Stat. 645 (codified as amended and supplemented, 16 U.S.C. 450bb-450bb-6), which established Harpers Ferry National Historical Park, provides the Secretary of the Interior with authority to make minor revisions in the boundary of the Park. Such boundary revisions may be made, when necessary, after advising the appropriate Congressional committees, and following publication of a revised boundary map, drawing, or other boundary description in the Federal Register.

In order to properly interpret and preserve the historic and scenic character of Harpers Ferry National Historical Park, it is necessary to revise the existing boundary to include three additional tracts of land comprising approximately 160 acres. The inclusion of these tracts within the boundary will increase the acreage of the Park to approximately 2,505 acres, the existing acreage ceiling for the Park as set forth by Pub. L. 101-109, approved October 6, 1989. The properties will be acquired by purchase.

Notice is hereby given that the exterior boundary of Harpers Ferry National Historical Park is revised to include the following tracts of land described as follows:

Tract Number P102-01

Beginning at a point in the centerline of West Virginia Route 27 (Bakerton Road) said point also being a corner common to Wallich thence with said centerline the following nine (9) courses:

1. South 20°06′32″ West 96.87 feet, thence

2. South 23°28′14″ West 151.46 feet, thence

3. South 23°14′14″ West 462.57 feet, thence

4. South 23°30′40″ West 198.75 feet, thence

5. South 23°59′38″ West 594.37 feet, thence

6. South 23°40′44″ West 395.36 feet, thence

7. South 23°17′36″ West 163.64 feet, thence

8. South 23°04′41″ West 198.57 feet, thence

9. South 23°43′59″ West 330.97 feet, thence

10. South 23°30′42″ West 137.18 feet, thence departing said centerline and running through the following three (3) courses:

11. North 66°31′59″ West 903.11 feet passing through a set #5 rebar and cap from the beginning thereof, to a set #5 rebar and cap thence

12. North 23°21′50″ East 811.82 feet to a fence post thence

13. North 23°26′52″ East 1,842.14 feet to a set #5 rebar and cap at the base of a fence and corner to aforesaid Wallich thence with said Wallich the following three (3) courses

14. South 21°07′45″ East 14.20 feet to a set #5 rebar and cap thence

15. South 72°11′45″ East 829.96 feet to a set #5 rebar and cap thence

16. South 69°41′45″ East 69.78 feet passing through a set #5 rebar and cap distant 15.00 feet from the end thereof to the point of beginning containing 56.00 acres, including that portion of WV Route 27 right-of-way and a proposed 40-foot wide access easement leading from WV Route 27 to the remainder of the property.

Being a part of the same property conveyed to the Civil War Preservation Trust from Anita D. Brown, Executrix of the Estate of Dixie D. Kilham, by a deed dated June 4, 2002, and recorded among the Land Records of Jefferson County, West Virginia in Deed Book 961, Page 219.

Tract Number P102-02

All those three certain tracts or parcels of real estate containing 3.93 acres, more or less, in the aggregate, designated as “WILT T.M. 6A/10, 11, 12 W.B. EE/346” on a plat of survey thereof dated June 9, 1995, prepared by Peter H. Lorenzen, L.P.S., entitled “PLAT OF RESURVEY for Norman Lester Wilt, Jr.,” to which said plat reference is hereby made for a more complete and accurate description by metes and bounds of the parcels; TOGETHER WITH a perpetual non-exclusive easement for purposes of ingress and egress to and from the property over and across that certain area designated as “20’ ROW (NOT IN USE)” and “40’ ROW (NOT IN USE).”

Being the same property conveyed to Scot M. Faulkner by Norman L. Wilt, Sr. and Susan M. Wilt, husband and wife, by Deed dated June 9, 1995, and recorded among the Land Records of Jefferson County, West Virginia, in Deed Book 807, Page 394.

Tract Number P103-01

All of the land together with improvements situated thereon as shown on a Final Plat entitled “MURPHY'S LANDING” dated May 2001, and prepared by R. Michael Shepp, P.S. of Appalachian Surveys of West Virginia, L.L.C.

Being all of the land acquired by Karen Dixon Fuller from Margaret Murphy by dated Deed December 30, 1997, and recorded among the Land Records of Jefferson County, West Virginia, in Deed Book 885, Page 444, AND all of the land acquired by Josephine K. Curtis and Karen Dixon Fuller from Recreational Adventures Campgrounds, Limited Liability Company by a Deed of Exchange dated February 1, 1999, and recorded among the Land Records of Jefferson County, West Virginia in Deed Book 923, Page 450.

Subject to all restrictive covenants, conditions easements, rights-of-way and limitations of record.

The above described parcels of land contain in the aggregate 160 acres of land and are depicted on Harpers Ferry National Historical Park Land Status Map numbered 385/80085, Segments 102 and 103, dated July, 2002.

All maps and drawings referenced are on file and available for inspection in the offices of the Land Resources Program Center, National Capital Region, National Park Service, Department of Interior, 1100 Ohio Drive, SW., Washington, DC 20242.

Dated: September 25, 2002.
Terry R. Carlstrom,
Regional Director, National Capital Region.

[FR Doc. 02-28520 Filed 11-7-02; 8:45 am]

BILLING CODE 4310-70-P